DEPARTMENT OF LABOR

Employment and Training Administration

[TA-W-53,586]

Mac Brad Wholesale Flowers, Inc., Pasadena, Texas; Notice of Termination of Investigation

Pursuant to Section 221 of the Trade Act of 1974, as amended, an investigation was initiated on November 19, 2003 in response to a worker petition filed by a company official on behalf of workers at Mac Brad Wholesale Flowers, Inc., Pasadena, Texas.

The petitioner has requested that the petition be withdrawn. Consequently, the investigation has been terminated.

Signed at Washington, DC, this 12th day of December, 2003.
Elliott S. Kushner,
Certifying Officer, Division of Trade Adjustment Assistance.

[FR Doc. 04-297 Filed 1-6-04; 8:45 am]

BILLING CODE 4510-30-P